OFFICE OF MANAGEMENT AND BUDGET

Audits of States, Local Governments, and Non-Profit Organizations; OMB Circular A-133 Compliance Supplement

AGENCY: Executive Office of the President, Office of Management and Budget.

ACTION: Notice of availability of the 2011 OMB Circular A-133 Compliance Supplement.

SUMMARY: This notice announces the availability of the 2011 OMB Circular A-133 Compliance Supplement (Supplement). The notice also offers interested parties an opportunity to comment on the 2011 Supplement. The 2011 Supplement adds nineteen new programs, including five programs added to existing clusters. It deletes two programs and has also been updated for program changes and technical corrections. The two deleted programs are Catalog of Federal Domestic Assistance (CFDA) 84.037, Reading First State Grants, and CFDA 84.938, Hurricane Education Recovery, which are no longer active (i.e., no funds are being spent by recipients), and have been archived in the CFDA.

In total, the 2011 Supplement includes 248 individual programs. A list of changes to the 2011 Supplement can be found at Appendix V. It updates Appendix VII that provides an audit alert and compliance requirements regarding the grant programs funded under American Recovery and Reinvestment Act of 2009. Due to its length, the 2011 Supplement is not included in this Notice. See ADDRESSES for information about how to obtain a copy either on line or through the Government Printing Office.

DATES: The 2011 Supplement will apply to audits of fiscal years beginning after June 30, 2010 and supersedes the 2010 Supplement. All comments on the 2011 Supplement must be in writing and received by October 31, 2011. Late comments will be considered to the extent practicable. We received no comments on the 2010 Supplement.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “A-133 Compliance Supplement—2011” in the subject line and the full body of your comments in the text of the electronic message and as an attachment. Please include your name, title, organization, postal address, telephone number, and e-mail address in the text of the message. Comments may also be submitted via facsimile at 202-395-3952.

Comments may be mailed to Gilbert Tran, Office of Federal Financial Management, Office of Management and Budget, 725 17th Street, NW., Room 6025, New Executive Office Building, Washington, DC 20503.

Comments may also be sent to via http://www.regulations.gov—a Federal E-Government Web site that allows the public to find, review, and submit comments on documents that agencies have published in the Federal Register and that are open for comment. Simply type “A-133 Compliance Supplement—2011” (in quotes) in the Comment or Submission search box, click Go, and follow the instructions for submitting comments. Comments received by the date specified above will be included as part of the official record.

ADDRESSES: The 2011 Supplement is available on-line under the Management heading from the OMB home page (Management/Grants Management/Circulars subpage) on the Internet at http://www.whitehouse.gov/omb. Hard copies of the 2011 Supplement may be purchased at any Government Printing Office (GPO) bookstore (stock number: 041-001-00687-7). The main GPO bookstore is located at 710 North Capitol Street, NW., Washington, DC 20401, (202) 512-0132.

FOR FURTHER INFORMATION CONTACT: Recipients should contact their cognizant or oversight agency for audit, or Federal awarding agency, as appropriate under the circumstances. The Federal agency contacts are listed in Appendix III of the Supplement. Subrecipients should contact their pass-through entity. Federal agencies should contact Gilbert Tran, Office of Management and Budget, Office of Federal Financial Management, at (202) 395-3052.

Debra J. Bond,
Deputy Controller.

[FR Doc. 2011-13893 Filed 6-3-11; 8:45 am]

BILLING CODE P